ENVIRONMENTAL PROTECTION AGENCY

[ER-FRL-6645-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 04, 2003 (68 FR 16511).

Draft EISs

ERP No. D-AFS-L65436-OR Rating LO, Juncrock Timber Sale Project, Treat Forest Vegetation, MT. Hood National Forest, Barlow Ranger District, Wasco County, OR.

Summary: EPA expressed lack of objections. However, EPA recommend the final EIS include water quality analysis information on temperature and sediment, and address project goals for Northern Spotted Owl habitat.

ERP No. D-DOE-K08025-00 Rating EC2, Sahuartia-Nogales Transmission Line, Construction and Operation of a 345,00-volt (345 kV) Electric Transmission Line across the United States Border with Mexico, Application for Presidential Permit, Tucson Electric Power (TEP), Nogales, AZ.

Summary: EPA expressed concerns about potential water and air quality impacts of the project. EPA requested the final EIS contain information on DOE's public involvement methods in support of their environmental justice findings and on how identified conflicts with affected Tribes will be resolved. EPA also sought clarification on potential transboundary effects, cumulative effects, and the underlying basis for selecting the Western Corridor as the Preferred Alternative.

ERP No. D-IBR-K39082-AZ Rating EC2, Wellton-Mohawk Title Transfer Project, Transfer of the Facilities, Works, and Lands, Wellton-Mohawk Division of the Gila Project, Wellton-Mohawk Irrigation and Drainage District, Yuma County, AZ.

Summary: EPA expressed environmental concerns about potential hazardous waste associated with underground and above ground storage tanks, environmental justice, and indirect air quality impacts due to anticipated changes in existing land use. EPA also urged a comprehensive evaluation of connected actions in future NEPA documents related to proposed power plant development and construction of a new transmission pipeline.

Final EISs

ERP No. F-AFS-F65039-WI, McCaslin Project, Vegetation Management Activities Consistent with Direction in the Nicolet Forest Plan, Lakewood/Laona District, Chequamegon-Nicolet National Forest, Oconto and Forest Counties, WI.

Summary: EPA expressed lack of objections for this project.

ERP No. F-AFS-L67042-OR, Steamboat Mountain Mining Operations, Surface Quarry or “Open Pit” Mineral Extraction, Plan-of-Operation Approval, Applegate Adaptive Management Area, Rogue River National Forest, Applegate Ranger District, Jackson County, OR.

Summary: EPA has expressed concerns with environmental impacts from changes made from the draft EIS to the final EIS regarding the transportation route and additional storage. EPA also continues to have concerns regarding potential adverse impacts to water quality from chemical processing, lack of reclamation and contingency planning, financial assurance and adequate monitoring from agency's preferred alternative.

ERP No. F-FRC-C05148-NY, St. Lawrence—FDR Hydroelectric Project, Application for New License (Relicense), (FERC No. 200-036), Located on the St. Lawrence River, Messina, NY.

Summary: EPA had no objections to the relicensing of the St. Lawrence—FDR Hydroelectric Project.

Dated: November 24, 2003.
Joseph C. Montgomery,
Director, NEPA Compliance Division, Office of Federal Activities.

[FR Doc. 03-29689 Filed 11-26-03; 8:45 am]

BILLING CODE 6560-50-P